DEPARTMENT OF JUSTICE

Notice of Lodging of Proposed Consent Decree Under the Toxic Substances Control Act

On September 5, 2023, the Department of Justice lodged a proposed Consent Decree (the “Consent Decree”) with the District Court of the Southern District of New York in a lawsuit entitled United States of America v. Apex Building Company, Inc., Civil Action No. 23-cv-007838.

In this action, the United States seeks, as provided under Toxic Substances Control Act (“TSCA”), injunctive relief from Apex Building Company, Inc., among others, in connection with the defendant's unlawful work practices during renovations governed by an implementing regulation of the TSCA—the Renovation, Repair, and Painting Rule, 40 CFR part 745. The proposed consent decree resolves the United States' claims, requires Apex Building Company, Inc. to pay $606,706, and imposes injunctive relief.

The publication of this notice opens the public comment on the proposed settlement. Comments should be addressed to the Assistant Attorney General, Environment and Natural Resources Division, and should refer to United States of America v. Apex Building Company, Inc., DJ #90-5-2-1-12388. All comments must be submitted no later than 30 days after the publication date of this notice. Comments may be submitted either by email or by mail:

To submit comments: | Send them to:
By email | pubcomment-ees.enrd@usdoj.gov.
By mail | Assistant Attorney General,U.S. DOJ—ENRD, P.O. Box 7611, Washington, D.C. 20044-7611.

During the public comment period, the settlement may be examined and downloaded at this Justice Department website: https://www.usdoj.gov/enrd/Consent_Decrees.html. We will provide a paper copy of the settlement upon written request and payment of reproduction costs. Please email your request and payment to: Consent Decree Library, U.S. DOJ-ENRD, P.O. Box 7611, Washington, DC 20044-7611.

Please enclose a check or money order for $13.00 (25 cents per page reproduction cost) payable to the United States Treasury.

Henry S. Friedman,
Assistant Section Chief, Environmental Enforcement Section, Environment and Natural Resources Division.

[FR Doc. 2023-19532 Filed 9-8-23; 8:45 am]

BILLING CODE 4410-15-P